DEPARTMENT OF THE INTERIOR

National Park Service

[2253-665]

Notice of Inventory Completion: Thomas Burke Memorial Washington State Museum, University of Washington, Seattle, WA

AGENCY: National Park Service, Interior.

ACTION: Notice.

SUMMARY: The Thomas Burke Memorial Washington State Museum (Burke Museum), University of Washington, has completed an inventory of human remains and associated funerary objects, in consultation with the appropriate Indian tribes, and has determined that there is a cultural affiliation between the human remains and associated funerary objects and a present-day Indian tribe. Representatives of any Indian tribe that believes itself to be culturally affiliated with the human remains and associated funerary objects may contact the Burke Museum. Repatriation of the human remains and associated funerary objects to the tribe named below may occur if no additional claimants come forward.

DATES: Representatives of any Indian tribe that believes it has a cultural affiliation with the human remains and associated funerary objects should contact the Burke Museum at the address below by June 17, 2011.

ADDRESSES: Peter Lape, Burke Museum, University of Washington, Box 35101, Seattle, WA 98195, telephone (206) 685-9364.

SUPPLEMENTARY INFORMATION: Notice is here given in accordance with the Native American Graves Protection and Repatriation Act (NAGPRA), 25 U.S.C. 3003, of the completion of an inventory of human remains and associated funerary objects in the control of the Thomas Burke Memorial Washington State Museum (Burke Museum), University of Washington, Seattle, WA. The human remains and associated funerary objects were removed from an island northwest of Sitka, in Southeast Alaska.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Burke Museum professional staff in consultation with representatives of the Official Village of Kake, Shee Atika, Inc., Sitka Tribe of Alaska, and Sealaska Heritage Institute, a regional Native Alaskan nonprofit organization.

History and Description of the Remains

Before 1902, human remains representing a minimum of five individuals were removed from an island northwest of Sitka, in Southeast Alaska. The documentation is unclear as to whether the human remains were removed from the west coast of Chichagof Island or Siginaka Island. These human remains were collected by Alexander Phil (or Piel) from a cave. Phil kept the human remains and funerary objects above his saloon in Sitka for an unknown period of time before H.A. Bauer brought them to Seattle. Bauer transferred the human remains to the Burke Museum in 1902 (Burke Accn. #998). The human remains include mummified human remains of a female. In 1922, a Tlingit individual identified her as a shaman or Indian doctor known to have been removed from the area; however, she was not identified by name. The remaining four individuals have not been identified. The five associated funerary objects are one wood burial box, two copper earrings (one set), one set of burial wrappings and rope, and one wood box inlaid with otter teeth.

The human remains are consistent with Native American morphology as evidenced through posterior flattening of the crania, as well as the presence of wormian bones. The historic cultural practices of the Tlingit included placing the human remains of shamans in a little house or cave (DeLaguna 1990) with some of their paraphenelia. Although mummification in a crouched position has been documented in both Tlingit and Aleut traditional territory throughout Southeast Alaska, the funerary objects are consistent with contemporary Tlingit material culture. The Northern Tlingit occupied the outer islands and coasts of Southeast Alaska, and the Sitka Tribe of Alaska, which includes the Northern Tlingit, traditionally occupied the west coast of Chichagof Island and Siginaka Island.

Determinations Made by the Burke Museum

Officials of the Burke Museum have determined that:

• Based on anthropological and biological evidence, the human remains and associated funerary objects are Native American.

• Pursuant to 25 U.S.C. 3001(9), the human remains described above represent the physical remains of five individuals of Native American ancestry.

• Pursuant to 25 U.S.C. 3001(3)(A), the five objects described above are reasonably believed to have been placed with or near individual human remains at the time of death or later as part of the death rite or ceremony.

• Pursuant to 25 U.S.C. 3001(2), there is a relationship of shared group identity that can be reasonably traced between the Native American human remains and associated funerary objects and the Sitka Tribe of Alaska.

Additional Requestors and Disposition

Representatives of any other Indian tribe that believes itself to be culturally affiliated with the human remains and associated funerary objects should contact Peter Lape, Burke Museum, University of Washington, Box 35101, Seattle, WA 98195, telephone (206) 685-9364, before June 17, 2011. Repatriation of the human remains and associated funerary objects to the Sitka Tribe of Alaska may proceed after that date if no additional claimants come forward.

The Burke Museum is responsible for notifying the Official Village of Kake, Shee Atika, Inc., Sitka Tribe of Alaska, and the Sealaska Heritage Institute, a regional Native Alaskan nonprofit organization, that this notice has been published.

Dated: May 12, 2011.
Sherry Hutt,
Manager, National NAGPRA Program.

[FR Doc. 2011-12249 Filed 5-17-11; 8:45 am]

BILLING CODE 4312-50-P